DEPARTMENT OF ENERGY

Federal Energy Regulatory Commission

[Project No. 15021-000]

Bard College, New York; Notice of Intent To Prepare an Environmental Assessment

On December 23, 2019, Bard College, New York filed an application for an exemption from licensing for the 10-kilowatt Annandale Micro Hydropower Project (Annandale Project) (FERC No. 15021). The Annandale Project is located on the Saw Kill, a tributary of the Hudson River, in the Town of Red Hook, Dutchess County, New York. The project does not occupy federal land.

In accordance with the Commission's regulations, on July 9, 2021, Commission staff issued a notice that the project was ready for environmental analysis (REA notice). Based on the information in the record, including comments filed on the REA notice, staff does not anticipate that licensing the project would constitute a major federal action significantly affecting the quality of the human environment. Therefore, staff intends to prepare an Environmental Assessment (EA) on the application to exempt the Annandale Project from licensing.

The EA will be issued and circulated for review by all interested parties. All comments filed on the EA will be analyzed by staff and considered in the Commission's decision on whether to issue an exemption from licensing for the project.

The application will be processed according to the following schedule. Revisions to the schedule may be made as appropriate.

Milestone | Target date
Commission issues EA | January 2022.¹
Comments on EA | February 2022.
¹ The Council on Environmental Quality's (CEQ) regulations under 40 CFR 1501.10(b)(1) require that EAs be completed within 1 year of the federal action agency's decision to prepare an EA. This notice establishes the Commission's intent to prepare an EA for the Annandale Project. Therefore, in accordance with CEQ's regulations, the EA must be issued within 1 year of the issuance date of this notice.

Any questions regarding this notice may be directed to Monir Chowdhury at (202) 502-6736 or monir.chowdhury@ferc.gov or Laurie Bauer at (202) 502-6519 or Laurie Bauer@ferc.gov.

Dated: September 22, 2021.
Kimberly D. Bose,
Secretary.

[FR Doc. 2021-21015 Filed 9-27-21; 8:45 am]

BILLING CODE 6717-01-P